DEPARTMENT OF COMMERCE

International Trade Administration

[A-549-817]

Certain Hot-Rolled Carbon Steel Flat Products From Thailand: Preliminary Determination of No Shipments; 2017-2018

AGENCY: Enforcement and Compliance, International Trade Administration, Department of Commerce.

SUMMARY: The Department of Commerce (Commerce) preliminarily determines that there were no shipments of subject merchandise during the period of review (POR) November 1, 2017 through October 31, 2018. We invite interested parties to comment on these preliminary results.

DATES: Applicable December 16, 2019.

FOR FURTHER INFORMATION CONTACT: Chelsey Simonovich, AD/CVD Operations, Office VI, Enforcement and Compliance, International Trade Administration, U.S. Department of Commerce, 1401 Constitution Avenue NW, Washington, DC 20230; telephone: (202) 482-1979.

SUPPLEMENTARY INFORMATION:

Background

On November 1, 2018, Commerce published in the Federal Register a notice of opportunity to request an administrative review of the order on certain hot-rolled carbon steel flat products (hot-rolled steel) from Thailand for the POR.¹ On November 30, 2018, Commerce received a request for administrative review covering imports of hot-rolled steel from Thailand, which was filed in proper form by Steel Dynamics and SSAB Enterprises (collectively, the petitioners).² Commerce published the notice of initiation of this administrative review on February 6, 2019, covering the two companies for which we received a request for review.³

¹ See Antidumping or Countervailing Duty Order, Finding, or Suspended Investigation; Opportunity To Request Administrative Review, 83 FR 54912 (November 1, 2018).

² See Petitioners' Letter, “Certain Hot-Rolled Carbon Steel Flat Products from Thailand: Request for Administrative Review,” dated November 30, 2018.

³ See Initiation of Antidumping and Countervailing Duty Administrative Reviews, 84 FR 2160 (February 6, 2019).

On February 27, 2019, Commerce received a notification of no shipments from Sahaviriya Steel Industries Public Co., Ltd. (Sahaviriya) and G Steel Public Company Ltd. (G Steel).⁴ On March 5, 2019, Commerce published a memorandum informing interested parties that we had made an inquiry to U.S. Customs and Border Protection (CBP) with regard to entries of subject merchandise for the purposes of potential respondent selection. The results indicated that there were no shipments of subject merchandise from Thailand as country of origin or country of export by G Steel or Sahaviriya into the United States during the POR.⁵ On March 20, 2019, Commerce made inquiries to CBP informing CBP that Commerce's records indicated no shipments from G Steel and Sahaviriya and requested that any CBP import officers aware of entries inform Commerce within ten days.⁶ We received no notifications from CBP.

⁴ See Sahaviriya and G Steel's Letter, “Certain Hot-Rolled Carbon Steel Flat Products from Thailand: Notice of No Shipments for Sahaviriya Steel Industries and G Steel Public Company (11//01/17-10/31/18),” dated February 27, 2019.

⁵ See Memorandum, “Certain Hot-Rolled Carbon Steel Flat Products from Thailand: Placement on the Record of Results of Inquiry to U.S. Customs and Border Protection for 2017-2018 Period of Review,” dated March 5, 2019 (CBP Memo).

⁶ See CBP Message 9079310, “No shipments inquiry for certain hot-rolled carbon steel flat products from Thailand produced and/or exported by G Steel Public Company Ltd. (A-549-817),” and CBP Message 9079311, “No shipments inquiry for certain hot-rolled carbon steel flat products from Thailand produced and/or exported by Sahaviriya Steel Industries Public Co., Ltd. (A-549-817),” both dated March 20, 2019 (CBP Message 9079311 and CBP Message 9079311, respectively).

Commerce exercised its discretion to toll all deadlines affected by the partial federal government closure from December 22, 2018 through the resumption of operations on January 28, 2019.⁷ On September 10, 2019, Commerce further extended the time limit for completion of the preliminary results of the review to no later than December 10, 2019.⁸ This preliminary determination is made in accordance with section 751 of the Tariff Act of 1930, as amended (the Act).

⁷ See Memorandum, “Deadlines Affected by the Partial Shutdown of the Federal Government,” dated January 28, 2019. All deadlines in this segment of the proceeding have been extended by 40 days. If the new deadline falls on a non-business day, in accordance with Commerce's practice, the deadline will become the next business day.

⁸ See Memorandum, “Certain Hot-Rolled Carbon Steel Flat Products from Thailand: Extension of Time Limit for Preliminary Results of Antidumping Duty Administrative Review,” dated September 10, 2019.

Scope of the Order

The product covered by the order is hot-rolled steel from Thailand. For a complete description of the scope of the order, see the appendix to this notice.

Preliminary Determination of No Shipments

Based on record evidence, we preliminarily determine that G Steel and Sahaviriya had no shipments of subject merchandise during the POR. With respect to G Steel and Sahaviriya, CBP stated that it did not find any shipments of subject merchandise from these two companies during the POR.⁹

⁹ See CBP Memo; see also CBP Message 9079310; and CBP Message 9079311.

Consistent with our practice, we find that it is not appropriate to rescind the review with respect to G Steel and Sahaviriya, but rather to complete the review and issue appropriate instructions to CBP based on the final results of this review.¹⁰

¹⁰ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

Public Comment

Interested parties may submit case briefs to Commerce no later than 30 days after the date of publication of this notice.¹¹ Rebuttal briefs, limited to issues raised in the case briefs, may be filed not later than five days after the date for filing case briefs.¹² Pursuant to 19 CFR 351.309(c)(2) and (d)(2), parties who submit case briefs or rebuttal briefs in this proceeding are encouraged to submit with each argument: (1) A statement of the issue; (2) a brief summary of the argument; and (3) a table of authorities.

¹¹ See 19 CFR 351.309(c)(1)(ii).

¹² See 19 CFR 351.309(d).

All submissions to Commerce must be filed electronically via Enforcement and Compliance's Antidumping and Countervailing Duty Centralized Electronic Service System (ACCESS) and must also be served on interested parties.¹³ ACCESS is available to registered users at http://access.trade.gov and is available to all parties in the Central Records Unit, Room B8024 of the main Commerce building. An electronically filed document must be received successfully in its entirety by 5:00 p.m. Eastern Time on the date that the document is due.

¹³ See 19 CFR 351.303(f).

Pursuant to 19 CFR 351.310(c), interested parties who wish to request a hearing must submit a written request to the Assistant Secretary for Enforcement and Compliance, filed electronically via Commerce's electronic records system, ACCESS. An electronically filed request must be received successfully in its entirety by 5:00 p.m. Eastern Time within 30 days of the date of publication of this notice.¹⁴ Requests should contain: (1) The party's name, address and telephone number; (2) the number of participants; and (3) a list of issues parties intend to discuss. Issues raised in the hearing will be limited to those raised in the respective case and rebuttal briefs. If a request for a hearing is made, Commerce intends to hold the hearing at the U.S. Department of Commerce, 1401 Constitution Avenue NW, Washington, DC 20230, at a date and time to be determined.¹⁵ Parties should confirm the date, time, and location of the hearing two days before the scheduled date.

¹⁴ See 19 CFR 351.310(c).

¹⁵ See 19 CFR 351.310(d).

Commerce intends to issue the final results of this administrative review, including the results of its analysis of the issues raised in any case or rebuttal briefs, no later than 120 days after the date of publication of this notice, unless extended.¹⁶

¹⁶ See section 751(a)(3)(A) of the Act; and 19 CFR 351.213(h).

Assessment Rates

If we continue to find in the final results that G Steel and Sahaviriya had no shipments of subject merchandise, for entries of subject merchandise during the POR produced by G Steel and Sahaviriya for which these companies did not know that the merchandise was destined for the United States, we will instruct CBP to liquidate these entries at the all-others rate if there is no rate for the intermediate company(ies) involved in the transaction.¹⁷

¹⁷ For a full discussion of this clarification, see Antidumping and Countervailing Duty Proceedings: Assessment of Antidumping Duties, 68 FR 23954 (May 6, 2003).

We intend to issue instructions to CBP 15 days after the date of publication of the final results of this review.

Cash Deposit Requirements

The following deposit requirements will be effective for all shipments of the subject merchandise entered, or withdrawn from warehouse, for consumption on or after the publication date of the final results of this administrative review, as provided by section 751(a)(2)(C) of the Act: (1) The cash deposit rates for G Steel and Sahaviriya will remain unchanged from the rate assigned to them in the most recently completed review of those companies; (2) for merchandise exported by manufacturers or exporters not covered in this review but covered in a prior segment of the proceeding, the cash deposit rate will continue to be the company-specific rate published for the most recently-completed segment; (3) if the exporter is not a firm covered in this review, a prior review, or the original investigation, but the manufacturer is, then the cash deposit rate will be the rate established for the most recently completed segment for the manufacturer of the merchandise; and (4) the cash deposit rate for all other manufacturers or exporters will continue to be 4.44 percent, the all-others rate established in the less-than-fair-value investigation.¹⁸ These cash deposit requirements, when imposed, shall remain in effect until further notice.

¹⁸ See Notice of Final Determination of Sales at Less Than Fair Value; Certain Hot Rolled Carbon Steel Flat Products from Thailand, 66 FR 49623 (September 28, 2001).

Notification to Importers

This notice serves as a preliminary reminder to importers of their responsibility under 19 CFR 351.402(f)(2), to file a certificate regarding the reimbursement of antidumping duties prior to liquidation of the relevant entries during this review period. Failure to comply with this requirement may result in the presumption that reimbursement of antidumping duties occurred and the subsequent assessment of double antidumping duties.

Notification to Interested Parties

We are issuing and publishing these results in accordance with sections 751(a)(1) and 777(i)(1) of the Act and 19 CFR 351.221(b)(4).

Dated: December 10, 2019.
Jeffrey I. Kessler,
Assistant Secretary for Enforcement and Compliance.

Appendix

SCOPE OF THE ORDER

For purposes of the Order, the products covered are certain hot-rolled carbon steel flat products of a rectangular shape, of a width of 0.5 inch or greater, neither clad, plated, nor coated with metal and whether or not painted, varnished, or coated with plastics or other non-metallic substances, in coils (whether or not in successively superimposed layers), regardless of thickness, and in straight lengths of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of the order.

Specifically included within the scope of the order are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of the order, regardless of definitions in the Harmonized Tariff Schedule of the United States (HTS), are products in which: (i) Iron predominates, by weight, over each of the other contained elements; (ii) the carbon content is 2 percent or less, by weight; and (iii) none of the elements listed below exceeds the quantity, by weight, respectively indicated:

1.80 percent of manganese,

or 2.25 percent of silicon,

or 1.00 percent of copper,

or 0.50 percent of aluminum,

or 1.25 percent of chromium,

or 0.30 percent of cobalt,

or 0.40 percent of lead,

or 1.25 percent of nickel,

or 0.30 percent of tungsten,

or 0.10 percent of molybdenum,

or 0.10 percent of niobium,

or 0.15 percent of vanadium,

or 0.15 percent of zirconium.

All products that meet the physical and chemical description provided above are within the scope of the order unless otherwise excluded. The following products, by way of example, are outside or specifically excluded from the scope of the order:

—Alloy hot-rolled steel products in which at least one of the chemical elements exceeds those listed above (including, e.g., ASTM specifications A543, A387, A514, A517, A506).

—Society of Automotive Engineers (SAE)/American Iron and Steel Institute (AISI) grades of series 2300 and higher.

—Ball bearings steels, as defined in the HTS.

—Tool steels, as defined in the HTS.

—Silico-manganese (as defined in the HTS) or silicon electrical steel with a silicon level exceeding 2.25 percent.

—ASTM specifications A710 and A736.

—USS Abrasion-resistant steels (USS AR 400, USS AR 500).

—All products (proprietary or otherwise) based on an alloy ASTM specification (sample specifications: ASTM A506, A507).

—Non-rectangular shapes, not in coils, which are the result of having been processed by cutting or stamping and which have assumed the character of articles or products classified outside chapter 72 of the HTS.

The merchandise subject to the order is classified in the HTS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled flat-rolled carbon steel flat products covered by the order, including: Vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.01.80. Subject merchandise may also enter under 7210.70.30.00, 7210.90.90.00, 7211.14.00.30, 7212.40.10.00, 7212.40.50.00, and 7212.50.00.00. Although the HTS subheadings are provided for convenience and U.S. Customs purposes, the written description of the merchandise under the order is dispositive.

[FR Doc. 2019-27030 Filed 12-13-19; 8:45 am]

BILLING CODE 3510-DS-P